DEPARTMENT OF DEFENSE

Department of the Army

Army Science Board Partially Closed Meeting Notice

AGENCY: Department of the Army, DoD.

ACTION: Notice of a partially closed meeting.

SUMMARY: Pursuant to the Federal Advisory Committee Act of 1972 (5 U.S.C., Appendix, as amended), the Sunshine in the Government Act of 1976 (U.S.C. 552b, as amended) and 41 Code of the Federal Regulations (CFR 102-3.140 through 160, the Department of the Army announces the following committee meeting:

Name of Committee: Army Science Board (ASB) Fall Plenary Voting Session.

Date: September 18, 2014.

Time: 0900-1100 for the open session and 1300-1500 for the closed session.

Location: The open session will take place at the Darden School of Business at 100 Darden Boulevard, Charlottesville, VA 22903. The closed session will take place at the adjacent U.S. Army Judge Advocate General's Legal Center and School at 600 Massie Road, Charlottesville, VA 22903. Both locations are on the campus of the University of Virginia in Charlottesville, VA.

Public's Accessibility to the Meeting: Pursuant to 5 U.S.C. 552b and 41 CFR 102-3.140 through 102.3.165, and the availability of space, the morning session of this meeting is open to the public. Seating is on a first-come basis. The Darden School of Business is readily accessible to and usable by persons with disabilities. For additional information about public access procedures, contact LTC Stephen Barker or Ms. Carolyn German at the email address or telephone number listed in the FOR FURTHER INFORMATION CONTACT section.

Purpose of Meeting: The purpose of the meeting is for ASB members to review, deliberate, and vote on the findings and recommendations presented in the Fiscal Year (FY) 2014 studies.

Agenda: The board will present findings and recommendations for deliberation and vote on the following three FY 2014 studies:

1. Air and Missile Defense Electronic Warfare (EW) Assessment—This is a classified study that will assist the Army by conducting a comprehensive assessment of the EW posture of the Army's Air and Missile Defense systems and their ability to operate in an advanced EW environment. This study will be reviewed in the closed portion of the meeting. This portion of the meeting is properly closed in accordance with 5 U.S.C. 552b(c)(1), which permits Federal Advisory Committee meetings to be closed which are likely to “disclose matters that are (A) specifically authorized under criteria established by an Executive Order to be kept secret in the interest of national defense or foreign policy and (B) in fact properly classified pursuant to such Executive Order.”

2. Decisive Army Strategic and Expeditionary Maneuver—This study will identify challenges in 2025 that effect the Army's ability to conduct strategic and expeditionary maneuver; explore options in joint air- and sea-basing, commercial capabilities and partnering opportunities to improve the Army's ability to maneuver; and identify technologies and other innovations that could improve the Army's strategic and expeditionary maneuver capabilities. This study will be reviewed in the open portion of the meeting.

3. Talent Management and the Next Training Revolution—This study will develop a concept of talent management that the Army should use to describe individuals and teams through 2030; examine current technologies and trends employed in talent management, to include recruiting, training, and retention; and develop a roadmap for the employment of promising talent management systems, associated technologies, and best practices, taking into consideration the unique nature of military service. This study will be reviewed in the open portion of the meeting.

FOR FURTHER INFORMATION CONTACT: LTC Stephen Barker, the Designated Federal Official (DFO), at 2530 Crystal Drive, Suite 7098, Arlington,VA 22202, (703) 545-8652 or email: stephen.k.barker.mil@mail.mil; or Ms. Carolyn German at (703) 545-8654 or email: carolyn.t.german.civ@mail.mil.

Public Statements: Pursuant to 41 CFR 102-3.105(j) and 102.3.140 and section 10(a)(3) of the Federal Advisory Committee Act, the public or interested organizations may submit written comments or statements to the Board, in response to the stated agenda of the meeting or in regard to the Board's mission in general. Written comments or statements should be submitted to the DFO via electronic mail, the preferred mode of submission, at the address listed in the FOR FURTHER INFORMATION CONTACT section. Each page of the comment or statement must include the author's name, title or affiliation, address, and daytime phone number. Written comments or statements being submitted in response to the agenda set forth in this notice must be received by the DFO at least seven business days prior to the meeting to be considered by the Board. The DFO will review all timely submitted written comments or statements with the Board Chairperson, and ensure the comments are provided to all members of Board before the meeting. Written comments or statements received after this date may not be provided to the Board until its next meeting.

Pursuant to 41 CFR 102-3.140d, the Board is not obligated to allow a member of the public to speak or otherwise address the Board during the meeting. Members of the public will be permitted to make verbal comments during the open portion of the Board meeting only at the time and in the manner described below. If a member of the public is interested in making a verbal comment at the open meeting, that individual must submit a request, with a brief statement of the subject matter to be addressed by the comment, at least five (5) business days in advance to the Board's DFO, via electronic mail, the preferred mode of submission, at the address listed in the FOR FURTHER INFORMATION CONTACT section. The DFO will log each request, in the order received, and in consultation with the Board Chair determine whether the subject matter of each comment is relevant to the Board's mission and/or the topics to be addressed in the meeting. A 15-minute period near the end of the meeting will be available for verbal public comments. Members of the public who have requested to make a verbal comment and whose comment has been deemed relevant under the process described above, will be allotted no more than three (3) minutes during this period, and will be invited to speak in the order in which their requests were received by the DFO.

Brenda S. Bowen,
Army Federal Register Liaison Officer.

[FR Doc. 2014-20301 Filed 8-26-14; 8:45 am]

BILLING CODE 3710-08-P